DEPARTMENT OF DEFENSE

Office of the Secretary

[Docket ID: DOD-2025-HA-0211]

Proposed Collection; Comment Request; Withdrawal

AGENCY: The Office of the Assistant Secretary of Defense for Health Affairs (OASD(HA)), Department of Defense (DoD).

ACTION: 60-Day information collection notice; withdrawal.

SUMMARY: On Monday, July 21, 2025, DoD published a notice in the Federal Register titled Proposed Collection; Comment Request. The notice published in the Federal Register twice. The purpose of this notice is to withdraw the unintentional duplication.

DATES: This withdrawal is effective July 25, 2025.

FOR FURTHER INFORMATION CONTACT: Aaron T. Siegel, 571-372-0488.

SUPPLEMENTARY INFORMATION: On Monday, July 21, 2025, DoD published a notice in the Federal Register titled Proposed Collection; Comment Request at 90 FR 34258. The FR Doc. is 2025-13633.

In the same Federal Register issue, an identical notice published at 90 FR 34485-34486. The FR Doc. is 2025-13699. DoD is withdrawing this identical notice.

Dated: July 23, 2025.
Aaron T. Siegel,
Alternate OSD Federal Register Liaison Officer, Department of Defense.

[FR Doc. 2025-14064 Filed 7-24-25; 8:45 am]

BILLING CODE 6001-FR-P